DEPARTMENT OF THE TREASURY

Notice of Funding Availability for the Direct Component and the Centers of Excellence Research Grants Program of the RESTORE Act

AGENCY: Departmental Offices, Department of the Treasury.

ACTION: Notice.

SUMMARY: The Treasury Office of Gulf Coast Restoration announces three Notice of Funding Opportunities for the Direct Component and Centers of Excellence Research Grants Program of the Resources and Ecosystems Sustainability, Tourist Opportunities, and Revived Economies of the Gulf Coast States Act of 2012 (RESTORE Act).

DATES: Applications will be accepted on a rolling basis as long as funds are available in an Applicant's allocation. This funding opportunity announcement will close on October 31, 2023. This funding opportunity announcement will either be extended, or a new funding opportunity announcement may be posted in 2023 as determined necessary by the U.S. Department of the Treasury.

ADDRESSES: For additional information regarding this notice, please contact Bridget Cotti-Rausch, Policy Analyst, Office of Gulf Coast Restoration at telephone number: 202-923-0467.

SUPPLEMENTARY INFORMATION: The Council is authorized to award grants pursuant to the Direct Component and Centers of Excellence Research Grants Program of the Resources and Ecosystems Sustainability, Tourist Opportunities, and Revived Economies of the Gulf Coast States Act of 2012 (RESTORE Act), Public Law 112-141, 1602, 126 Stat. 588 (2012). Treasury announces two Direct Component Notice of Funding Opportunities (NOAs) and one Centers of Excellence Research Grants Program NOA. The NOAs provide guidance to eligible entities on the steps necessary to submit grant applications for individual projects and programs. The full text of the FOAs can be found on Treasury's Direct Component website (https://home.treasury.gov/policy-issues/financial-markets-financial-institutions-and-fiscal-service/restore-act/direct-component/direct-component-resources) and Treasury's Centers of Excellence Research Program website (https://home.treasury.gov/policy-issues/financial-markets-financial-institutions-and-fiscal-service/restore-act/centers-of-excellence-research-grants-program/centers-of-excellence-coe-resources).

Authority: 44 U.S.C. 3501 et seq.

Melody Braswell,
Treasury PRA Clearance Officer.

[FR Doc. 2022-21827 Filed 10-6-22; 8:45 am]

BILLING CODE 4810-AK-P